NUCLEAR REGULATORY COMMISSION

[NRC-2011-0297]

General Site Suitability Criteria for Nuclear Power Stations

AGENCY: Nuclear Regulatory Commission.

ACTION: Regulatory guide; issuance.

SUMMARY: The U.S. Nuclear Regulatory Commission (NRC) is issuing Revision 3 of Regulatory Guide 4.7, “General Site Suitability Criteria for Nuclear Power Stations.” This guide describes a method that the NRC staff considers acceptable to implement the site suitability requirements for nuclear power stations. It is intended to assist applicants in the initial stage of selecting potential sites for a nuclear power station. Each site that appears to be compatible with the general criteria discussed in this guide should be examined in greater detail before it can be considered a “candidate” site (i.e., one of the group of sites to be considered in selecting a “proposed” or “preferred” site).

ADDRESSES: Please include Docket ID NRC-2011-0297 when contacting the NRC about the availability of information regarding this document. You may access publicly-available information related to this action by the following methods:

• Federal Rulemaking Web site: Go to http://www.regulations.gov and search for documents filed under Docket ID NRC-2011-0297. Address questions about NRC dockets to Carol Gallagher, telephone: 301-287-3422; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Revision 3 of Regulatory Guide 4.7 is available in ADAMS under Accession No. ML12188A053. The regulatory analysis may be found in ADAMS under Accession No. ML12188A052.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Jacob Philip, telephone: 301-251-7471, email: jacob.philip@nrc.gov; or Edward O'Donnell, telephone: 301-251-7455 or email: edward.odonnell@nrc.gov. Both are staff of the Office of Nuclear Regulatory Research, U.S. Nuclear Regulatory Commission, Washington, DC 20555-0001.

SUPPLEMENTARY INFORMATION:

I. Introduction

The NRC is issuing a revision to an existing guide in the NRC's “Regulatory Guide” series. This series was developed to describe and make available to the public information such as methods that are acceptable to the NRC staff for implementing specific parts of the agency's regulations, techniques that the staff uses in evaluating specific problems or postulated accidents, and data that the staff needs in its review of applications for permits and licenses.

Revision 3 of RG 4.7 was issued with a temporary identification as Draft Regulatory Guide, DG-4021. This revision of the guide incorporates references to Part 52 of Title 10 of the Code of Federal Regulations (10 CFR), and to relevant sections in the NRC's standard review plan (NUREG-0800) that the staff uses to evaluate nuclear power plant license applications and the standard review plan for environmental review of nuclear power plants (NUREG-1555). In addition, the technical references were updated.

II. Further Information

DG-4021 was issued for public comment in the Federal Register on December 30, 2011 (76 FR 82201), for a 60-day public comment period. The public comment period closed on February 25, 2012. Public comments on DG-4021 and the staff responses to the public comments are available in ADAMS under Accession No. ML12188A054.

II. Congressional Review Act

This regulatory guide is a rule as defined in the Congressional Review Act (5 U.S.C. 801-808). However, the Office of Management and Budget has not found it to be a major rule as defined in the Congressional Review Act.

IV. Backfitting and Issue Finality

Issuance of this regulatory guide does not constitute backfitting as defined in 10 CFR 50.109 (the Backfit Rule) and is not otherwise inconsistent with the issue finality provisions in 10 CFR Part 52. This regulatory guide will not apply to any construction permits, operating licenses, early site permits, limited work authorizations issued under 10 CFR 50.10 for which the NRC issued a final environmental impact statement (EIS) preceded by a draft EIS under 10 CFR 51.76 or 51.75, or combined licenses, any of which were issued by the NRC prior to issuance of the final regulatory guide. The NRC has already completed its siting determination for those construction permits, operating licenses, early site permits, limited work authorizations, and combined licenses. Therefore, no further NRC regulatory action on siting will occur for those licenses, permits, and authorizations, for which the guidance in the regulatory guide would be relevant.

This regulatory guide may be applied to applications for early site permits, combined licenses, and limited work authorizations issued under 10 CFR 50.10, which includes information under 10 CFR 51.49(b) or (f), where the application is docketed by the NRC as of the date of issuance of the final regulatory guide, as well as future applications for construction permits, early site permits, combined licenses, and limited work authorizations, which includes information under 10 CFR 51.49(b) or (f), where the application is submitted after the issuance of the final regulatory guide. Such action does not constitute backfitting as defined in 10 CFR 50.109(a)(1) and is not otherwise inconsistent with the applicable issue finality provisions in 10 CFR Part 52, inasmuch as such applicants or potential applicants are not within the scope of entities protected by the Backfit Rule or the relevant issue finality provisions in Part 52.

Dated at Rockville, Maryland, this 24th day of March, 2014.
For the Nuclear Regulatory Commission.
Thomas H. Boyce,
Chief, Regulatory Guide Development Branch, Division of Engineering, Office of Nuclear Regulatory Research.

[FR Doc. 2014-06888 Filed 3-27-14; 8:45 am]

BILLING CODE 7590-01-P